INTERNATIONAL TRADE COMMISSION

[Investigation No. 731-TA-1121 (Final)]

Light-Walled Rectangular Pipe and Tube From Turkey

Determination

On the basis of the record ¹ developed in the subject investigation, the United States International Trade Commission (Commission) determines,² pursuant to section 735(b) of the Tariff Act of 1930 (19 U.S.C. 1673d(b)) (the Act), that an industry in the United States is materially injured by reason of imports from Turkey of light-walled rectangular pipe and tube, provided for in subheading 7306.61 of the Harmonized Tariff Schedule of the United States, that have been found by the Department of Commerce (Commerce) to be sold in the United States at less than fair value (LTFV).

¹ The record is defined in sec. 207.2(f) of the Commission's Rules of Practice and Procedure (19 CFR § 207.2(f)).

² Commissioner Dean A. Pinkert did not participate.

Background

The Commission instituted this investigation effective June 27, 2007, following receipt of a petition filed with the Commission and Commerce by Allied Tube and Conduit, Harvey, IL; Atlas Tube, Plymouth, MI; California Steel and Tube, City of Industry, CA; Ex-L-Tube, Kansas City, MO; Hannibal Industries, Los Angeles, CA; Leavitt Tube Company LLC, Chicago, IL; Maruichi American Corporation, Sante Fe Springs, CA; Searing Industries, Rancho Cucamonga, CA; Southland Tube, Birmingham, AL; Vest Inc., Los Angeles, CA; Welded Tube, Concord, Ontario (Canada); and Western Tube and Conduit, Long Beach, CA. The final phase of the investigation was scheduled by the Commission following notification of a preliminary determination by Commerce that imports of light-walled rectangular pipe and tube from Turkey were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 5, 2008 (72 FR 6740). The hearing was held in Washington, DC, on April 11, 2008, and all persons who requested the opportunity were permitted to appear in person or by counsel.

The Commission transmitted its determination in this investigation to the Secretary of Commerce on May 23, 2008. The views of the Commission are contained in USITC Publication 4001 (May 2008), entitled

Light-Walled Rectangular Pipe and Tube from Turkey: Investigation No. 731-TA-1121 (Final).

By order of the Commission.
Issued: May 23, 2008.
Marilyn R. Abbott,
Secretary to the Commission.

[FR Doc. E8-12036 Filed 5-29-08; 8:45 am]

BILLING CODE 7020-02-P